DEPARTMENT OF ENERGY

Federal Energy Regulatory Commission

Sunshine Act Meetings

The following notice of meeting is published pursuant to section 3(a) of the government in the Sunshine Act (Pub. L. 94-409), 5 U.S.C. 552b:

TIME AND DATE: March 24, 2022, 10:00 a.m.

PLACE: Open to the public via audio Webcast only. Join FERC online to listen live at http://ferc.capitolconnection.org/.

STATUS: Open.

MATTERS TO BE CONSIDERED: Agenda

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1088th—Meeting, Open Meeting
[March 24, 2022, 10:00 a.m.]
Item No. | Docket No. | Company
Administrative
A-1 | AD22-1-000 | Agency Administrative Matters.
A-2 | AD22-2-000 | Customer Matters, Reliability, Security and Market Operations.
Electric
E-1 | EL21-66-001 | Central Hudson Gas & Electric Corporation, Consolidated Edison of New York, Inc., Niagara Mohawk Power Corporation, New York State Electric & Gas Corporation, Orange and Rockland Utilities, Inc., and Rochester Gas and Electric Corporation v. New York Independent System Operator Inc.
| ER21-1647-002 (not consolidated) | New York Independent System Operator, Inc. Central Hudson Gas & Electric Corporation, Consolidated Edison Company of New York, Inc., Niagara Mohawk Power Corporation, New York State Electric & Gas Corporation, Orange and Rockland Utilities, Inc., and Rochester Gas and Electric Corporation.
E-2 | ER21-1115-003 | Duke Energy Progress, LLC and Duke Energy Carolinas, LLC.
| ER21-1118-003 | Louisville Gas and Electric Company.
| ER21-1125-003 | Alabama Power Company.
| ER21-1128-003 | Dominion Energy South Carolina, Inc.
E-3 | ER21-1111-005 | Alabama Power Company.
| ER21-1112-005 | Dominion Energy South Carolina, Inc.
| ER21-1114-005 | Louisville Gas and Electric Company.
| ER21-1116-005 | Duke Energy Carolinas, LLC.
| ER21-1117-005 | Duke Energy Progress, LLC.
| ER21-1119-005 | Georgia Power Company.
| ER21-1120-005 | Kentucky Utilities Company.
| ER21-1121-005 (Not consolidated) | Mississippi Power Company.
E-4 | OMITTED
E-5 | ER22-865-000 | Glaciers Edge Wind Project, LLC.
E-6 | EL10-56-000 | Western Electricity Coordinating Council.
E-7 | ER21-2401-001 | Oliver Wind Energy Center II, LLC.
E-8 | EF21-3-000 | Bonneville Power Administration.
E-9 | ER21-2179-001 | Oliver Wind I, LLC.
E-10 | ER21-1807-003 | Hill Top Energy Center LLC.
E-11 | ER21-2860-001 | The Connecticut Light and Power Company.
E-12 | EL22-27-000 | Alabama Power Company, Georgia Power Company, and Mississippi Power Company.
E-13 | ER18-194-000, ER18-195-000 | Southwest Power Pool, Inc. and American Electric Power Service Corporation.
E-14 | ER18-1106-002 | Kestrel Acquisition, LLC.
E-15 | EL22-8-000 | Irradiant Partners, LP.
E-16 | EL21-98-000 | Pacific Gas and Electric Company.
Gas
G-1 | RP22-433-000 | Range Resources-Appalachia, LLC and Columbia Gulf Transmission, LLC v. Texas Eastern Transmission, LP.
| RP22-435-000 (Not Consolidated) | Range Resources-Appalachia, LLC v. Texas Eastern Transmission, LP.
G-2 | RP21-1001-002 | Texas Eastern Transmission, LP.
G-3 | RP21-957-000 | Northern Natural Gas Company.
Hydro
H-1 | P-14227-005 | The Nevada Hydro Company, Inc.
H-2 | P-15229-000 | Alabama Power Company.
Certificates
C-1 | PL18-1-001 | Certification of New Interstate Natural Gas Facilities.
| PL21-3-001 | Consideration of Greenhouse Gas Emissions in Natural Gas Infrastructure Project Reviews.
C-2 | CP20-527-000 | Columbia Gulf Transmission, LLC.
C-3 | CP20-50-000 | Tennessee Gas Pipeline Company, L.L.C.
| CP20-51-000 | Southern Natural Gas Company, L.L.C.
C-4 | CP20-48-000 | Iroquois Gas Transmission System, L.P.
C-5 | CP15-554-004, CP15-554-005, CP15-554-006, CP15-554-007, CP15-554-009 | Atlantic Coast Pipeline, LLC.
| CP15-555-003, CP15-555-004, CP15-555-005 | Dominion Energy Transmission, Inc.
| CP15-555-007 | Eastern Gas Transmission and Storage, Inc.
C-6 | CP17-458-015 | Midship Pipeline Company, LLC.
C-7 | CP21-28-000 | Northern Natural Gas Company.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: March 17, 2022.
Kimberly D. Bose,
Secretary.

[FR Doc. 2022-06147 Filed 3-18-22; 4:15 pm]

BILLING CODE 6717-01-P